DEPARTMENT OF HEALTH AND HUMAN SERVICES

National Institutes of Health

Center for Scientific Review; Cancellation of Meeting

Notice is hereby given of the cancellation of the Behavioral Medicine, Interventions and Outcomes Study Section, October 03, 2013, 8:00 a.m. to October 04, 2013, 5:00 p.m., The Allerton Hotel, 701 North Michigan Avenue, Chicago, IL 60611 which was published in the Federal Register on September 9, 2013, 78 FR 55087.

The meeting is cancelled due to the reassignment of applications.

Dated: November 8, 2013.
Anna Snouffer,
Deputy Director, Office of Federal Advisory Committee Policy.

[FR Doc. 2013-27354 Filed 11-14-13; 8:45 am]

BILLING CODE 4140-01-P